DEPARTMENT OF VETERANS AFFAIRS

Advisory Committee: VA National Academic Affiliations Council, Notice of Meeting

The Department of Veterans Affairs (VA) gives notice under the Federal Advisory Committee Act, 5 U.S.C. App. 2, that a meeting of the VA National Academic Affiliations Council (NAAC) will be held March 9, 2022-March 10, 2022 at the American Legion, 7th Floor, 1608 K Street NW, Washington, DC 20006. The meeting is open to the public.

The purpose of the Council is to advise the Secretary on matters affecting partnerships between VA and its academic affiliates.

On March 9, 2022, the Council will convene an open session from 1:00 p.m. to 5:00 p.m. EST. The agenda will include collaborative discussions with Office of Research and Development leadership; Discovery, Education and Affiliate Networks leadership; and the Secretary of Veterans Affairs. The Council will receive a brief on Veterans Health Administration's Electronic Health Record Modernization efforts as related to education and research; and an update from the Strategic Academic Advisory Council.

On March 10, 2022, the Council will convene an open session and receive presentations on Federal Supremacy, the CHIP IN for Veterans Act's 10-year pilot program, and updates from Nursing education regarding residency programs, and the NAAC's Diversity in the Healthcare Workforce Subcommittee. The Council will receive public comments from 1:30 p.m. to 1:45 p.m. EST and will adjourn the meeting at 2:00 p.m.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting, or at any time via email to Larissa.Emory@va.gov, or by mail to Larissa Emory PMP, CBP, MS, Designated Federal Officer, Department of Veterans Affairs, Veterans Health Administration, Office of Academic Affiliations (14AA), 810 Vermont Avenue NW, Washington, DC 20420. Any member of the public wishing to attend or seeking additional information should contact Ms. Emory via email or by phone at (915) 269-0465.

Dated: January 31, 2022.
Jelessa M. Burney,
Federal Advisory Committee Management Officer.

[FR Doc. 2022-02340 Filed 2-3-22; 8:45 am]

BILLING CODE P